FEDERAL COMMUNICATIONS COMMISSION

47 CFR Part 73

[DA 00-2106; MM Docket No. 00-75; RM-9863]

Radio Broadcasting Services; Kahului, HI

AGENCY: Federal Communications Commission.

ACTION: Final rule.

SUMMARY: This document allots Channel 223C2 to Kahului, Hawaii, as that community's second local FM transmission service, in response to a petition for rule making filed by New West Broadcasting. See 65 FR 33798, May 25, 2000. The allotment requires a site restriction 10.5 kilometers (6.5 miles) southeast of Kahului at coordinates 20-50-24 NL and 156-23-14 WL.

DATES: Effective October 30, 2000. A filing window for Channel 223C2 at Kahului, Hawaii, will not be opened at this time. Instead, the issue of opening a filing window for this channel will be addressed by the Commission in a subsequent Order.

FOR FURTHER INFORMATION CONTACT: Nancy Joyner, Mass Media Bureau, (202) 418-2180.

SUPPLEMENTARY INFORMATION: This is a synopsis of the Commission's Report and Order, MM Docket No. 00-75, adopted September 6, 2000, and released September 15, 2000. The full text of this Commission decision is available for inspection and copying during normal business hours in the FCC's Reference Information Center (Room CY-A257), 445 Twelfth Street, SW., Washington, DC. The complete text of this decision may also be purchased from the Commission's copy contractor, International Transcription Service, Inc., 1231 20th Street, NW., Washington, DC 20036, (202) 857-3800.

List of Subjects in 47 CFR Part 73

Radio broadcasting.

Part 73 of title 47 of the Code of Federal Regulations is amended as follows:

PART 73—[AMENDED]

1. The authority citation for part 73 continues to read as follows:

Authority: 47 U.S.C. 154, 303, 334, 336.

§ 73.202 [Amended]

2. Section 73.202(b), the Table of FM Allotments under Hawaii, is amended by adding Channel 223C2 at Kahului.

Federal Communications Commission.
John A. Karousos,
Chief, Allocations Branch, Policy and Rules Division, Mass Media Bureau.

[FR Doc. 00-24880 Filed 9-27-00; 8:45 am]

BILLING CODE 6712-01-P